DEPARTMENT OF COMMERCE

International Trade Administration

[A-549-502]

Circular Welded Carbon Steel Pipes and Tubes From Thailand: Notice of Court Decision Not in Harmony With Final Scope Ruling and Notice of Amended Final Scope Ruling Pursuant to Court Decision

AGENCY: Enforcement and Compliance, International Trade Administration, Department of Commerce.

SUMMARY: On August 25, 2022, the U.S. Court of International Trade (CIT) issued its final judgment in Saha Steel Pipe Public Company, Ltd v. United States, Court No. 20-00133, Slip Op. 22-99 (Saha Steel), sustaining the Department of Commerce (Commerce)'s final results of redetermination pertaining to the scope ruling for the antidumping duty (AD) order on circular welded carbon steel pipes and tubes (CWP) from Thailand. In the redetermination, Commerce found that dual-stenciled standard pipe and line pipe are outside the scope of the order, pursuant to the CIT's remand order in Saha Thai Steel Pipe Public Company Ltd v. United States, 547 F. Supp. 3d 1278 (CIT Oct. 6, 2021) (Remand Order). Commerce is notifying the public that the CIT's final judgment is not in harmony with Commerce's final scope ruling, and that Commerce is amending the scope ruling to find that dual-stenciled standard pipe and line pipe are outside the scope of the order.

DATES: Applicable September 4, 2022.

FOR FURTHER INFORMATION CONTACT: Leo Ayala, AD/CVD Operations, Office VII, Enforcement and Compliance, International Trade Administration, U.S. Department of Commerce, 1401 Constitution Avenue NW, Washington, DC 20230; telephone: (202) 482-3945.

SUPPLEMENTARY INFORMATION:

Background

On June 30, 2020, in its Final Scope Ruling, Commerce found that dual-stenciled standard pipe and line pipe, products which are stenciled as meeting industry standards for both standard pipe and line pipe, are within the scope of the AD order on CWP from Thailand.¹ Commerce also found that line pipe, which is not dual-stenciled as standard pipe and line pipe, is not within the scope of the Order.²

¹ See Memorandum, “Antidumping Duty Order on Circular Welded Carbon Steel Pipes and Tubes from Thailand: Final Scope Ruling on Line Pipe and Dual-Stenciled Standard and Line Pipe,” dated June 30, 2020 (Final Scope Ruling). See also Antidumping Duty Order; Circular Welded Carbon Steel Pipes and Tubes from Thailand, 51 FR 8341 (March 11, 1986) (Order).

² See Final Scope Ruling.

Saha Thai Steel Pipe Public Company Ltd. appealed Commerce's Final Scope Ruling with respect to its determination on dual-stenciled standard pipe and line pipe. On October 6, 2021, the CIT remanded the Final Scope Ruling to Commerce to conduct an analysis that reconsidered the sources listed in 19 CFR 351.225(k)(1) to determine whether dual-stenciled pipe, which is certified for use in standard pipe or line pipe applications, falls within the scope of the Order.³ In accordance with the CIT's analysis and conclusions, Commerce issued its final results of redetermination, submitted to the CIT on April 22, 2022, in which Commerce, under protest, concluded that dual-stenciled standard pipe and line pipe are outside the scope of the Order.⁴ The CIT subsequently sustained Commerce's Amended Final Redetermination.⁵

³ See Remand Order.

⁴ See “Saha Thai Steel Pipe Public Company, Ltd., v. United States, Court No. 1:20-cv-133, Slip Op. 21-135 (CIT October 6, 2021)—Amended Final Results of Redetermination Pursuant to Court Remand” dated April 22, 2022. (Amended Final Redetermination). Commerce previously submitted a final results of redetermination on January 4, 2022. See Saha Thai Steel Pipe Public Company, Ltd., v. United States, Court No. 1:20-cv-133, Slip Op. 21-135 (CIT October 6, 2021)—Final Results of Redetermination Pursuant to Court Remand,” ECF No. 58. However, on a motion by the government, the Court granted Commerce leave to amend the final results of redetermination by removing extraneous legal arguments, and to submit an amended final results of redetermination. See Amended Final Redetermination.

⁵ See Saha Steel.

Timken Notice

In its decision in Timken,⁶ as clarified by Diamond Sawblades,⁷ the Court of Appeals for the Federal Circuit held that, pursuant to sections 516A(c) and (e) of the Tariff Act of 1930, as amended (the Act), Commerce must publish a notice of court decision that is not “in harmony” with a Commerce determination, and must suspend liquidation of entries pending a “conclusive” court decision. The CIT's August 25, 2022, judgment constitutes a final decision of the CIT that is not in harmony with Commerce's Final Scope Ruling. Thus, this notice is published in fulfillment of the publication requirements of Timken.

⁶ See Timken Co. v. United States, 893 F.2d 337 (Fed. Cir. 1990) (Timken).

⁷ See Diamond Sawblades Manufacturers Coalition v. United States, 626 F.3d 1374 (Fed. Cir. 2010) (Diamond Sawblades).

Amended Final Scope Ruling

In accordance with the CIT's August 25, 2022, final judgment, Commerce is amending its Final Scope Ruling and determines that the scope of the Order does not cover dual-stenciled standard pine and line pipe addressed in the Final Scope Ruling.

Liquidation of Suspended Entries

Commerce will instruct U.S. Customs and Border Protection (CBP) that, pending any appeals, the cash deposit rate will be zero percent for entries of dual-stenciled standard pipe and line pipe produced in Thailand. In the event that the CIT's final judgment is not appealed or is upheld on appeal, Commerce will instruct CBP to lift suspension of liquidation of such entries, and to liquidate entries of dual-stenciled standard pipe and line pipe produced in Thailand without regard to antidumping duties.

Notification to Interested Parties

This notice is issued and published in accordance with sections 516A(c) and (e), and 777(i)(1) of the Act.

Dated: September 1, 2022.
Lisa W. Wang,
Assistant Secretary for Enforcement and Compliance.

[FR Doc. 2022-19630 Filed 9-9-22; 8:45 am]

BILLING CODE 3510-DS-P